Proclamation 7830 of October 11, 2004

General Pulaski Memorial Day, 2004

By the President of the United States of America

A Proclamation

The story of Revolutionary War hero Brigadier General Casimir Pulaski is one of bravery and sacrifice that helped to secure America's blessings of liberty. We remember General Pulaski for his skill in battle, his commitment to freedom, and his willingness to give his life for America's independence.

Born in Poland in 1745, Casimir Pulaski first gained distinction as a military hero while fighting to defend his native Poland. His reputation as a bold warrior and his dedication to the cause of liberty became known throughout Europe.

Pulaski met with Benjamin Franklin in Paris in 1777 and agreed to join the Americans in their fight for freedom. He quickly proved to be a gifted military leader and was commissioned as a Brigadier General. He became known as “the Father of the American Cavalry,” recruiting and training a special corps of American, Polish, Irish, French, and German troops who fought with great skill and success. During the siege of Savannah in 1779, General Pulaski was mortally wounded, leaving a legacy of heroism that continues to inspire people around the world.

On General Pulaski Memorial Day, we honor a noble patriot committed to the cause of freedom, and we recognize the countless contributions Polish Americans have made to our Nation and our culture. We also celebrate the strong friendship between the United States and Poland, remembering our shared history and common values and honoring the sacrifices of Polish troops who have served bravely alongside American and coalition forces in Iraq and Afghanistan.

NOW, THEREFORE, I, GEORGE W. BUSH, President of the United States of America, by virtue of the authority vested in me by the Constitution and laws of the United States, do hereby proclaim October 11, 2004, as General Pulaski Memorial Day. I encourage all Americans to commemorate this occasion with appropriate programs and activities paying tribute to Casimir Pulaski and honoring all those who defend freedom.

IN WITNESS WHEREOF, I have hereunto set my hand this eleventh day of October, in the year of our Lord two thousand four, and of the Independence of the United States of America the two hundred and twenty-ninth.

B

[FR Doc. 04-23207

Filed 10-13-04; 8:54 am]

Billing code 3195-01-P